DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of May 1, 2020 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Grundy County, Missouri and Incorporated Areas
Docket Nos.: FEMA-B-1851 and FEMA-B-1910
City of Galt | City Hall, 102 South Main Street, Galt, MO 64641.
City of Laredo | City Hall, 213 East Main Street, Laredo, MO 64652.
City of Spickard | City Hall, 303 Jefferson Street, Spickard, MO 64679.
City of Tindall | Grundy County Courthouse, 700 Main Street, Trenton, MO 64683.
City of Trenton | City Hall, 1100 Main Street, Trenton, MO 64683.
Unincorporated Areas of Grundy County | Grundy County Courthouse, 700 Main Street, Trenton, MO 64683.
Randolph County, Missouri and Incorporated Areas
Docket No.: FEMA-B-1906
City of Clark | City Hall, 401 Main Street, Clark, MO 65243.
City of Huntsville | City Hall, 205 South Main Street, Huntsville, MO 65259.
City of Moberly | City Hall, 101 West Reed Street, Moberly, MO 65270.
Unincorporated Areas of Randolph County | Randolph County Courthouse, 372 Highway JJ, Suite A, Huntsville, MO 65259.
Village of Cairo | Village Hall, 202 West Martin Street, Cairo, MO 65239.
Village of Renick | Randolph County Courthouse, 372 Highway JJ, Suite A, Huntsville, MO 65259.
Vernon County, Missouri and Incorporated Areas
Docket Nos.: FEMA-B-1853 and FEMA-B-1910
City of Bronaugh | City Hall, 178 East 4th Street, Bronaugh, MO 64728.
City of Nevada | City Hall, 110 South Ash Street, Nevada, MO 64772.
City of Schell City | City Hall, 134 South Main Street, Schell City, MO 64783.
Village of Metz | Vernon County Courthouse, 100 West Cherry Street, Suite 6, Nevada, MO 64772.
Village of Richards | Vernon County Courthouse, 100 West Cherry Street, Suite 6, Nevada, MO 64772.
Village of Stotesbury | Vernon County Courthouse, 100 West Cherry Street, Suite 6, Nevada, MO 64772.
Unincorporated Areas of Vernon County | Vernon County Courthouse, 100 West Cherry Street, Suite 6, Nevada, MO 64772.
Seward County, Nebraska and Incorporated Areas
Docket No.: FEMA-B-1908
City of Milford | City Hall, 505 1st Street, Milford, NE 68405.
City of Seward | City Hall, 537 Main Street, Seward, NE 68434.
Unincorporated Areas of Seward County | Seward County Courthouse, 529 Seward Street, Seward, NE 68434.
Village of Beaver Crossing | Village Hall, 800 Dimery Street, Beaver Crossing, NE 68313.
Village of Bee | Village Office, 220 Elm Street, Bee, NE 68314.
Village of Cordova | Village Records Office, 310 Hector Street, Cordova, NE 68330.
Village of Garland | Garland Fire Department, 170 4th Street, Garland, NE 68360.
Village of Goehner | Village Office, 1140 May Street, Goehner, NE 68364.
Village of Pleasant Dale | Community Hall, 110 Ash Street, Pleasant Dale, NE 68423.
Village of Staplehurst | Community Hall, 155 South 3rd Street, Staplehurst, NE 68439.
Village of Utica | Village Office, 466 1st Street, Utica, NE 68456.

[FR Doc. 2019-26888 Filed 12-12-19; 8:45 am]

BILLING CODE 9110-12-P